DEPARTMENT OF EDUCATION

Notice of Proposed Information Collection Requests; Federal Student Aid; William D. Ford Federal Direct Loan (Direct Loan) Program/Federal Family Loan (FFEL) Program: Deferment Request Forms

AGENCY: Department of Education.

ACTION: Notice.

SUMMARY: This form serves as the means by which borrowers in the William D. Ford Federal Direct Loan (Direct Loan) and Federal Family Education Loan (FFEL) Programs may request an Income-Based or Income-Contingent Repayment Plans if they meet certain statutory and regulaotry criteria.

DATES: Interested persons are invited to submit comments on or before October 9, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04906. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: William D. Ford Federal Direct Loan (Direct Loan) Program/Federal Family Loan (FFEL) Program: Deferment Request Forms.

OMB Control Number: 1845-0102.

Type of Review: Revision.

Total Estimated Number of Annual Responses: 3,159,132.

Total Estimated Number of Annual Burden Hours: 1,042,514.

Abstract: The U.S. Department of Education uses the information collected on these forms to determine whether a borrower meets the eligibility requirements for the specific Income-Based or Income-Contingent Repayment Plan that the borrower has requested. The burden hours associated with this collection is increasing for one reason; namely, that the collection is being combined with all Income-Based or Income-Contingent materials contained in the soon-to-be revised 1845-0014 (Direct Loan Repayment Plan Selection Form), so that the forms associated with this collection may be used in both the FFEL and Direct Loan Program.

Dated: August 3, 2012.
Kate Mullan,
Acting Director, Information Collection Clearance Division, Privacy, Information and Records Management Services, Office of Management.

[FR Doc. 2012-19403 Filed 8-7-12; 8:45 am]

BILLING CODE 4000-01-P